DEPARTMENT OF HOMELAND SECURITY

Agreement Between the Government of the United States of America and the Government of the Republic of El Salvador for Cooperation in the Examination of Protection Claims

AGENCY: Department of Homeland Security, Office of Strategy, Policy, and Plans.

ACTION: Notice of Agreement.

SUMMARY: The Department of Homeland Security is publishing the Agreement Between the Government of the United States of America and the Government of the Republic of El Salvador for Cooperation in the Examination of Protection Claims. The text of the Agreement is set out below.

Tyler Houlton,
Assistant Secretary for International Affairs, Office of Strategy, Policy, and Plans, U.S. Department of Homeland Security.

BILLING CODE 9110-9M-P

[FR Doc. 2020-28136 Filed 12-21-20; 8:45 am]

BILLING CODE 9110-9M-C